DEPARTMENT OF STATE

[Public Notice 5669]

Shipping Coordinating Committee; Notice of Meeting

The Shipping Coordinating Committee (SHC) will conduct an open meeting at 9:30 a.m. on Thursday, February 15, 2007, in Room 6319 of the United States Coast Guard Headquarters Building, 2100 Second Street SW., Washington, DC, 20593-0001. The primary purpose of the meeting is to prepare for the 50th session of the Sub-Committee on Ship Design and Equipment (DE) to be held at the International Maritime Organization (IMO) Headquarters in London, England from March 5 to March 9, 2007.

The primary matters to be considered include:

— Amendments to resolution A.744(18) regarding longitudinal strength of tankers;

—Measures to prevent accidents with lifeboats;

—Compatibility with life-saving appliances;

—Test standards for extended service intervals of inflatable liferafts;

—Amendments to the Guidelines for ships operating in Arctic ice-covered waters;

—Revision of resolution A.760(18) regarding symbols related to life-saving appliances and arrangements;

—Guidelines for uniform operating limitations of high-speed craft;

—Consideration of IACS unified interpretations;

—Inspection and survey requirements for accommodation ladders;

—Revision of the Guidelines for systems for handling oily wastes in machinery spaces of ships (MEPC/Circ.235);

—Development of provisions for gas-fuelled ships;

—Performance standards for protective coatings;

—Guidelines for maintenance and repair of protective coatings;

—Requirements and standard for corrosion protection of permanent means of access arrangements;

—Performance standards for recovery systems;

—Guidelines for approval of novel-life-saving appliances;

—Mandatory emergency towing systems in ships other than tankers greater than 20,000 dwt;

—Review of the Special Purpose Ships (SPS) Code;

—Revision of the Code on Alarms and Indicators (resolution A.830(19));

—Amendments to the MODU Code;

—Review of MEPC.1/Circ.511 and relevant MARPOL Annex I and Annex VI requirements.

Hard copies of documents associated with the 50th session of DE will be available at this meeting. To request further copies of documents please write to the address provided below.

Members of the public may attend this meeting up to the seating capacity of the room. Interested persons may seek information by writing to Mr. Wayne Lundy, Commandant (CG-3PSE-3), U.S. Coast Guard Headquarters, 2100 Second Street SW., Room 1300, Washington, DC 20593-0001 or by calling (202) 372-1379.

Dated: January 18, 2007.
Michael E. Tousley,
Executive Secretary, Shipping Coordinating Committee, Department of State.

[FR Doc. E7-1007 Filed 1-23-07; 8:45 am]

BILLING CODE 4710-09-P